DEPARTMENT OF TRANSPORTATION

Federal Aviation Administration

Notice of Passenger Facility Charge (PFC) Approvals and Disapprovals

AGENCY: Federal Aviation Administration (FAA) DOT.

ACTION: Monthly Notice of PFC Approvals and Disapprovals. In August 2002, there were no applications approved. Twelve approved amendments to previously approved applications are listed.

SUMMARY: The FAA publishes a monthly notice, as appropriate, of PFC approvals and disapprovals under the provisions of the Aviation Safety and Capacity Expansion Act of 1990 (Title IX of the Omnibus Budget Reconciliation Act of 190) (Pub. L. 101-508) and Part 158 of the Federal Aviation Regulations (14 CFR part 158). This notice is published pursuant to paragraph (d) of § 158.29.

Amendments to PFC Approvals
Amendment No., city, state | Amendment approved date | Original approved net PFC revenue | Amendment approved net PFC revenue | Original estimated charge exp. date | Amended estimated charge exp. date
*93-01-C-05-TYS, Knoxville, TN | 02/08/02 | 4,881,882 | 4,453,055 | 02/01/97 | 02/01/97
*99-01-C-01-STC, St. Cloud, MN | 04/16/02 | 1,147,578 | 1,147,578 | 10/01/19 | 01/01/14
*97-04-1-01-SBP, San Luis Obispo, CA | 06/25/02 | 6,820,830 | 6,820,830 | 07/01/15 | 07/01/12
00-06-U-01-SBP, San Luis Obispo, CA | 06/25/02 | NA | NA | 07/01/15 | 07/01/12
99-03-C-01-MOB, Mobile, AL | 07/15/02 | 5,694,289 | 4,033,023 | 10/01/04 | 07/01/04
92-01-C-01-NGM, Agana, GU | 08/16/02 | 5,632,000 | 800,00 | 06/01/94 | 06/01/94
*93-02-C-02-NGM, Agana, GU | 08/16/02 | 258,408,107 | 257,802,097 | 07/01/21 | 03/01/25
*99-04-C-01-PNS, Pensacola, FL | 08/19/02 | 19,400,000 | 19,400,000 | 06/01/09 | 09/01/07
*93-01-1-02-SHV, Shreveport, LA | 08/20/02 | 29,841,353 | 29,841,353 | 05/01/16 | 09/01/14
95-02-U-01-SHV, Shreveport, LA | 08/20/02 | NA | NA | 05/01/16 | 09/01/14
*94-02-C-02-BWI, Baltimore, MD | 08/28/02 | 60,230,930 | 60,230,930 | 04/01/09 | 06/01/04
99-03-C-02-DRO, Durango, CO | 08/29/02 | 730,634 | 1,169,258 | 09/01/02 | 01/01/04
Note: The amendments denoted by an asterisk (*) include a change to the PFC level charged from $3.00 per enplaned passenger to $4.50 per enplaned passenger. For St. Cloud, MN, this change is effective on July 1, 2002. For San Luis Obispo, CA, this change is effective on September 1, 2002. For Pensacola, FL, Agana, GU, Shreveport, LA, and Baltimore, MD, this change is effective on November 1, 2002.

Issued in Washington, DC on October 2, 2002.
Barry Molar,
Manager, Airports Financial Assistance Division.

[FR Doc. 02-25593 Filed 10-7-02; 8:45 am]

BILLING CODE 4910-13-M